SMALL BUSINESS ADMINISTRATION

[Disaster Declaration #16995 and #16996; Louisiana Disaster Number LA-00112]

Presidential Declaration of a Major Disaster for the State of Louisiana

AGENCY: U.S. Small Business Administration.

ACTION: Notice.

SUMMARY: This is a Notice of the Presidential declaration of a major disaster for the State of Louisiana (FEMA-4606-DR), dated 06/02/2021.

Incident: Severe Storms, Tornadoes, and Flooding.

Incident Period: 05/17/2021 through 05/21/2021.

DATES: Issued on 06/02/2021.

Physical Loan Application Deadline Date: 08/02/2021.

Economic Injury (EIDL) Loan Application Deadline Date: 03/02/2022.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 06/02/2021, applications for disaster loans may be filed at the address listed above or other locally announced locations.

The following areas have been determined to be adversely affected by the disaster:

Primary Parishes (Physical Damage and Economic Injury Loans): Ascension, Calcasieu, East Baton Rouge, Iberville, Lafayette.

Contiguous Parishes/Counties (Economic Injury Loans Only):

Louisiana: Acadia, Assumption, Beauregard, Cameron, East Feliciana, Iberia, Jefferson Davis, Livingston, Pointe Coupee, Saint Helena, Saint James, Saint Landry, Saint Martin, St John the Baptist, Vermilion, West Baton Rouge.

Texas: Newton, Orange.

The Interest Rates are:

| Percent
For Physical Damage:
Homeowners with Credit Available Elsewhere | 3.250
Homeowners without Credit Available Elsewhere | 1.625
Businesses with Credit Available Elsewhere | 5.760
Businesses without Credit Available Elsewhere | 2.880
Non-Profit Organizations with Credit Available Elsewhere | 2.000
Non-Profit Organizations without Credit Available Elsewhere | 2.000
For Economic Injury:
Businesses & Small Agricultural Cooperatives without Credit Available Elsewhere | 2.880
Non-Profit Organizations without Credit Available Elsewhere | 2.000

The number assigned to this disaster for physical damage is 16995 B and for economic injury is 16996 0.

(Catalog of Federal Domestic Assistance Number 59008)

James Rivera,
Associate Administrator for Disaster Assistance.

[FR Doc. 2021-11985 Filed 6-7-21; 8:45 am]

BILLING CODE 8026-03-P